NUCLEAR REGULATORY COMMISSION

[Docket No. 70-0398; NRC-2023-0184]

U.S. Department of Commerce; National Institute of Standards and Technology; License Renewal

AGENCY: Nuclear Regulatory Commission.

ACTION: Notice; issuance.

SUMMARY: The U.S. Nuclear Regulatory Commission (NRC) has renewed Special Nuclear Materials (SNM) License No. SNM-362, to the U.S. Department of Commerce, National Institute of Standards and Technology (NIST, the licensee) located in Gaithersburg, Maryland. The renewed license authorizes NIST to continue to possess and use SNM for a period of 10 years and will expire on April 10, 2035.

DATES: License No. SNM-362 was issued on April 10, 2025, and is effective as of the date of issuance.

ADDRESSES: Please refer to Docket ID NRC-2023-0184 when contacting the NRC about the availability of information regarding this document. You may obtain publicly available information related to this document using any of the following methods:

• Federal Rulemaking Website: Go to https://www.regulations.gov and search for Docket ID NRC-2023-0184. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Osiris Siurano-Pérez, Office of Nuclear Material Safety and Safeguards, U.S. Nuclear Regulatory Commission, Washington, DC 20555-0001; telephone: 301-415-7827; email: Osiris.Siurano-Perez@nrc.gov.

SUPPLEMENTARY INFORMATION:

I. Background

NIST is a Federal agency within the U.S. Department of Commerce. Under the SNM-362 license, NIST uses licensed materials for research, development, calibration, and testing activities. NIST also develops, maintains, and disseminates national standards for ionizing radiation and radioactivity to support health care, industry, and homeland security at its Gaithersburg, Maryland site. The quantity of SNM possessed and used by NIST requires an NRC-issued SNM license pursuant to part 70 of title 10 of the Code of Federal Regulations (10 CFR), “Domestic licensing of special nuclear material.”

II. Discussion

Pursuant to 10 CFR 2.106, the NRC is providing notice of the issuance of renewal of a 10 CFR part 70 license, SNM-362, to NIST in Gaithersburg, Maryland. The license authorizes NIST to possess and use SNM for research, development, calibration, and testing activities at its Gaithersburg site. NIST's original license renewal application (LRA) for a 10-year license was made by letter dated August 8, 2023. The term of NIST's license, which also recognizes NIST as a Type A Broad Scope License pursuant to 10 CFR part 33, “Specific Domestic Licenses of Broad Scope for Byproduct Material,” expired on September 9, 2023. The NRC staff performed an acceptance review of NIST's application and by letter dated October 6, 2023, notified NIST that the LRA contained sufficient information to proceed with its detailed technical review. NIST was also notified that, since it filed its LRA at least 30 days before the license's expiration date, pursuant to the timely renewal provisions in 10 CFR 70.38(a), NIST was permitted to continue using its SNM in accordance with the existing SNM-362 license, pending a final decision by the Commission on the LRA.

On November 16, 2023, a notice of receipt of NIST's LRA with an opportunity for the public to request a hearing and petition for leave to intervene was published in the Federal Register (88 FR 78798). The NRC did not receive a request for a hearing or for a petition for leave to intervene.

The LRA was subsequently supplemented by letter dated March 11, 2024. The letter included a revised version of NIST's LRA. The revised version of the LRA is a standalone document that integrates the information provided in NIST's responses to an NRC staff's requests for additional information dated February 9, 2024.

The NRC staff determined that NIST's proposed licensed activities meet the categorical exclusion in 10 CFR 51.22(c)(14)(v) for the use of radioactive materials for research and development and for educational purposes. Therefore, an environmental assessment and an environmental impact statement are not required for the renewal of the SNM-1373 license.

The NRC finds that the renewed license complies with the standards and requirements of the Atomic Energy Act of 1954, as amended, and the NRC's rules and regulations as set forth in 10 CFR chapter 1. Accordingly, the renewed license issued on April 10, 2025, is effective as of the date of issuance. The NRC prepared a safety evaluation report (SER) for the renewal of license SNM-362 and concluded that NIST can continue to use and possess SNM in accordance with its license without endangering the health and safety of the public, and that this action will not significantly affect the quality of the human environment for the duration of the license.

III. Availability of Documents

Documents related to this action, including the license renewal application and other supporting documentation, are available to interested persons as indicated.

Document description | ADAMS accession No.
License Renewal Application (Initial), dated August 8, 2023 | ML23221A162 (Package).
NRC Acknowledgement of Receipt of the Application Letter, dated August 29, 2023 | ML23237B469.
Acceptance of NIST's License Renewal Application Letter, dated October 6, 2023 | ML23271A220.
Request for Additional Information Letter, dated February 9, 2024 | ML23320A135.
NIST's Revised License Renewal Application, dated March 7, 2024 | ML24071A181.
Email (Errata)—Correction to NIST License Renewal Application—Material Control & Accountability Requirements, dated April 3, 2024 | ML24096B503.
NIST License Renewal Application Corrected Page 48 (April 3, 2024) | ML24096B504.
Reply To Request for Additional Information: U.S. Department of Commerce, National Institute Of Standards And Technology (NIST) Application For Renewal Of Special Nuclear Materials License Number 362—EPID L-2023-RNW-0017 | ML24152A178.
NRC Transmittal Letter: SNM-362 License Renewal, dated April 10, 2025 | ML24152A179.
SER on NIST's License Renewal Application, dated April 10, 2025 | ML24152A180 (non-public, withheld pursuant to 10 CFR 2.390).
Renewed SNM-362, dated April 10, 2025 | ML24152A181.
SER on NIST's License Renewal Application, dated April 10, 2025 | ML24152A182 (non-public, withheld pursuant to 10 CFR 2.390).
Renewed SNM-362 Sensitive Conditions, dated April 10, 2025 | ML24152A183 (non-public, withheld pursuant to 10 CFR 2.390).

Dated: April 17, 2025.
For the Nuclear Regulatory Commission.
Samantha Lav,
Chief, Fuel Facility Licensing Branch, Division of Fuel Management, Office of Nuclear Material Safety and Safeguards.

[FR Doc. 2025-06902 Filed 4-22-25; 8:45 am]

BILLING CODE 7590-01-P